DEPARTMENT OF HOMELAND SECURITY

Federal Emergency Management Agency

[Docket ID: FEMA-2013-0039]

Technical Mapping Advisory Council

AGENCY: Federal Emergency Management Agency, DHS.

ACTION: Notice; Correction.

SUMMARY: On November 1, 2013, the Federal Emergency Management Agency (FEMA) published a notice in the Federal Register requesting applications from qualified individuals for appointment to the Technical Mapping Advisory Council (TMAC). The notice incorrectly stated that contractors and potential contractors will not be considered for membership on the TMAC.

FOR FURTHER INFORMATION CONTACT: Michael Godesky, 1800 South Bell Street, Arlington, Virginia 20598-3035, email: FEMA-TMAC@fema.dhs.gov, phone: 202.646.2752.

SUPPLEMENTARY INFORMATION: In its Federal Register notice of November 1, 2013 (78 FR 65689), FEMA incorrectly stated that contractors and potential contractors will not be considered for membership on the TMAC. FEMA will consider contractors and potential contractors on a case by case basis, but they may be subject to additional membership restrictions in order to comply with Federal ethics requirements.

Dated: November 20, 2013.
W. Craig Fugate,
Administrator, Federal Emergency Management Agency.

[FR Doc. 2013-28313 Filed 11-25-13; 8:45 am]

BILLING CODE 9110-12-P